DEPARTMENT OF THE TREASURY

Office of Thrift Supervision

[AC-31; OTS Nos. 02186 and H4650]

Versailles Savings and Loan Company, Versailles, OH; Approval of Conversion Application

Notice is hereby given that on November 12, 2009, the Office of Thrift Supervision approved the application of Versailles Savings and Loan Company, Versailles, Ohio, to convert to the stock form of organization. Copies of the application are available for inspection by appointment (phone number: (202) 906-5922 or e-mail: public.info@ots.treas.gov) at the Public Reading Room, 1700 G Street, NW., Washington, DC 20552, and the OTS Central Regional Office, 1 South Wacker Drive, Suite 2000, Chicago, Illinois 60606.

Dated: November 16, 2009.
By the Office of Thrift Supervision.
Sandra E. Evans,
Federal Register Liaison.

[FR Doc. E9-27995 Filed 11-19-09; 8:45 am]

BILLING CODE 6720-01-P